DEPARTMENT OF HEALTH AND HUMAN SERVICES

National Institutes of Health

National Institute on Aging; Amended Notice of Meeting

Notice is hereby given of a change in the meeting of the National Institute on Aging Special Emphasis Panel, January 23, 2025, 12:00 p.m. to January 23, 2025, 04:00 p.m., National Institute on Aging, 5601 Fishers Lane, Rockville, MD 20892 which was published in the Federal Register on December 20, 2024, 89 FR 104553.

The meeting notice is amended to change the start date of the meeting from 1/23/2025 to 4/18/2025. The meeting is closed to the public.

Dated: March 25, 2025.
Bruce A. George,
Program Analyst, Office of Federal Advisory Committee Policy.

[FR Doc. 2025-05404 Filed 3-27-25; 8:45 am]

BILLING CODE 4140-01-P